CONSUMER PRODUCT SAFETY COMMISSION

Sunshine Act Meetings

Federal Register Citation of Previous Announcement: Vol. 77, No. 52, Friday, March 16, 2012, page 15737.

ANNOUNCED TIME AND DATE OF MEETING: Wednesday, March 21, 2012, 10 a.m.-11 a.m. Meeting Canceled.

For a recorded message containing the latest agenda information, call (301) 504-7948.

CONTACT PERSON FOR ADDITIONAL INFORMATION: Todd A. Stevenson, Office of the Secretary, 4330 East West Highway, Bethesda, MD 20814 (301) 504-7923.

Dated: March 20, 2012.
Todd A. Stevenson,
Secretary.

[FR Doc. 2012-7032 Filed 3-20-12; 4:15 pm]

BILLING CODE 6355-01-P